ENVIRONMENTAL PROTECTION AGENCY

[EPA-R05-SFUND-2024-0559; FRL-12429-01-R5]

Proposed Prospective Purchaser Agreement for the Brandon Road Interbasin Project Site in Joliet, Illinois

AGENCY: Environmental Protection Agency (EPA).

ACTION: Notice; request for public comment.

SUMMARY: In accordance with the Prospective Purchaser Agreement, notice is hereby given of a proposed administrative settlement concerning the property to be used in the Brandon Road Interbasin Project with the following Settling Party: Illinois Department of Natural Resources. The Settling Party intends to acquire title to an approximately 2.32-acre portion of the property at 1800 Channahon Road, Joliet, Illinois, which is adjacent to the Joliet 29 Generating Station and borders the Brandon Road Lock and Dam.

DATES: Comments must be submitted on or before January 8, 2025.

ADDRESSES: You may send comments, identified by Docket ID No. EPA-R05-SFUND-2024-0559, by any of the following methods:

• Federal eRulemaking Portal: https://www.regulations.gov/ (our preferred method). Follow the online instructions for submitting comments.

• Mail: U.S. Environmental Protection Agency, ATTN: David Duckett, Assistant Regional Counsel, Office of Regional Counsel (C-14J), 77 W Jackson Blvd., Chicago, Illinois 60604.

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: David Duckett, Office of Regional Counsel, Environmental Protection Agency, telephone number: (312) 886-0140; email address: duckett.david@epa.gov.

SUPPLEMENTARY INFORMATION:

I. Public Participation

A. Written Comments

Submit your comments, identified by Docket ID No. EPA-R05-SFUND-2024-0559, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

For thirty (30) days following the date of publication of this notice, the EPA will receive written comments relating to the proposed settlement. The EPA will consider all comments received and may modify or withdraw its consent to the proposed settlement if comments received disclose facts or considerations which indicate that the settlement is inappropriate, improper, or inadequate. The proposed settlement is available for public inspection at https://www.regulations.gov. The EPA's response to any comments received will be available for public inspection at the EPA, Region 5, Records Center, 77 W Jackson Blvd., 7th Fl., Chicago, Illinois 60604. Commenters may request an opportunity for a public hearing in the affected area, in accordance with section 7003(d) of RCRA, 42 U.S.C. 6973(d).

The settlement requires the Settling Party to enroll the property in the Illinois Site Remediation Program (“Illinois SRP”) within thirty days of acquiring the property and conduct a comprehensive site investigation including geotechnical and environmental investigations to determine the nature and extent of any soil or groundwater contamination. Based on the results of the site investigation, Purchaser will conduct a remedial action that generally includes addressing the presence of any contaminants of concern requiring remediation under the Illinois SRP, constructing a barrier to facilitate excavation of the Waste Material, excavating all Waste Material (as defined in the settlement) and properly disposing of it, relocating and extending a storm sewer system, and backfilling the excavated areas with clean fill. The Settling Party will complete all activities required by the Illinois SRP and obtain a No Further Remediation Letter for the Property from the Illinois Environmental Protection Agency. The settlement includes a covenant not to sue by the United States pursuant to sections 106 and 107(a) of the Comprehensive Environmental Response, Compensation, and Liability Act and section 7003 of the Resource Conservation and Recovery Act for Existing Contamination and the Work. Existing Contamination is defined as any hazardous substances, pollutants, or contaminants or Waste Material present or existing on or under the Property as of the Effective Date of the settlement; any hazardous substances, pollutants, or contaminants or Waste Material that migrated from the property prior to the Effective Date; and any hazardous substances, pollutants, or contaminants or Waste Material presently at the site at 1800 Channahon Rd. in Joliet, Illinois, that migrate onto, under, or from the Property after the Effective Date.

Thomas Short,
Deputy Director, Superfund & Emergency Management Division, Region 5.

[FR Doc. 2024-28615 Filed 12-6-24; 8:45 am]

BILLING CODE 6560-50-P